DEPARTMENT OF ENERGY

Federal Energy Regulatory Commission

[Docket No. ER00-3243-002, et al.]

West Texas Utilities Company, et al.; Electric Rate and Corporate Regulation Filings

October 6, 2000.

Take notice that the following filings have been made with the Commission:

1. West Texas Utilities Company

[Docket No. ER00-3243-002]

Take notice that on October 3, 2000, West Texas Utilities Company (WTU) filed a copy of its Wholesale Power Choice Tariff (WPC Tariff). The Tariff is reformatted to conform with the requirements of Order No. 614 but there are no changes to the currently effective tariff language.

WTU seeks an effective date of June 15, 2000 and, accordingly, seeks waiver of the Commission's notice requirements.

Copies of the filing have been served on all of WTU's customers under the WPC Tariff and on the Public Utility Commission of Texas.

Comment date: October 24, 2000, in accordance with Standard Paragraph E at the end of this notice.

2. Sierra Pacific Power Company and Nevada Power Company

[Docket No. ER00-2997-001]

Take notice that on October 4, 2000, Sierra Pacific Power Company and Nevada Power Company tendered for filing their compliance filing in the above-captioned docket.

This filing has been served on all parties on the official service list in this proceeding.

Comment date: October 25, 2000, in accordance with Standard Paragraph E at the end of this notice.

3. Madison Gas & Electric Company, Wisconsin Public Service Corp., and American Transmission Company LLC

[Docket No. EC00-136-000]

Take notice that on October 3, 2000, Madison Gas & Electric Company and Wisconsin Public Service Corp. filed supplemental information relating to their Section 203 Application for Authorization to Transfer Transmission Assets.

A copy of the filing has been served on the Public Service Commission of Wisconsin.

Comment date: October 24, 2000, in accordance with Standard Paragraph E at the end of this notice.

4. Cinergy Services, Inc.

[Docket No. ER01-16-000]

Take notice that on October 3, 2000, Cinergy Services, Inc. (Cinergy) and South Jersey Energy Company filed a Notice of Cancellation of Service Agreement No. 127, under Cinergy Operating Companies, Resale of Transmission Rights and Ancillary Service Rights, FERC Electric Tariff Original Volume No. 8.

Cinergy requests an effective date of October 1, 2000.

Comment date: October 24, 2000, in accordance with Standard Paragraph E at the end of this notice.

5. Cinergy Services, Inc.

[Docket No. ER01-17-000]

Take notice that on October 3, 2000, Cinergy Services, Inc. (Cinergy) and Wisconsin Power & Light Company filed a Notice of Cancellation of Service Agreement No. 148, under Cinergy Operating Companies, Resale of Transmission Rights and Ancillary Service Rights, FERC Electric Tariff Original Volume No. 8.

Cinergy requests an effective date of October 1, 2000.

Comment date: October 24, 2000, in accordance with Standard Paragraph E at the end of this notice.

6. Cinergy Services, Inc.

[Docket No. ER01-18-000]

Take notice that on October 3, 2000, Cinergy Services, Inc. (Cinergy) and American Energy Trading, Inc. filed a Notice of Cancellation of Service Agreement No. 10, under Cinergy Operating Companies, Resale of Transmission Rights and Ancillary Service Rights, FERC Electric Tariff Original Volume No. 8.

Cinergy requests an effective date of October 1, 2000.

Comment date: October 24, 2000, in accordance with Standard Paragraph E at the end of this notice.

7. Cinergy Services, Inc.

[Docket No. ER01-19-000]

Take notice that on October 3, 2000, Cinergy Services, Inc. (Cinergy) and Maine Public Service Company filed a Notice of Cancellation of Service Agreement No. 78, under Cinergy Operating Companies, Resale of Transmission Rights and Ancillary Service Rights, FERC Electric Tariff Original Volume No. 8.

Cinergy requests an effective date of October 1, 2000.

Comment date: October 24, 2000, in accordance with Standard Paragraph E at the end of this notice.

8. Cinergy Services, Inc.

[Docket No. ER01-20-000]

Take notice that on October 3, 2000, Cinergy Services, Inc. (Cinergy) and Niagara Mohawk Power Corporation filed a Notice of Cancellation of Service Agreement No. 94, under Cinergy Operating Companies, Resale of Transmission Rights and Ancillary Service Rights, FERC Electric Tariff Original Volume No. 8.

Cinergy requests an effective date of October 1, 2000.

Comment date: October 24, 2000, in accordance with Standard Paragraph E at the end of this notice.

9. Cinergy Services, Inc.

[Docket No. ER01-21-000]

Take notice that on October 3, 2000, Cinergy Services, Inc. (Cinergy) and Montaup Electric Company filed a Notice of Cancellation of Service Agreement No. 87, under Cinergy Operating Companies, Resale of Transmission Rights and Ancillary Service Rights, FERC Electric Tariff Original Volume No. 8.

Cinergy requests an effective date of October 1, 2000.

Comment date: October 24, 2000, in accordance with Standard Paragraph E at the end of this notice.

10. Cinergy Services, Inc.

[Docket No. ER01-22-000]

Take notice that on October 3, 2000, Cinergy Services, Inc. (Cinergy) and IES Utilities, Inc. filed a Notice of Cancellation of Service Agreement No. 65, under Cinergy Operating Companies, Resale of Transmission Rights and Ancillary Service Rights, FERC Electric Tariff Original Volume No. 8.

Cinergy requests an effective date of October 1, 2000.

Comment date: October 24, 2000, in accordance with Standard Paragraph E at the end of this notice.

11. Cinergy Services, Inc.

[Docket No. ER01-23-000]

Take notice that on October 3, 2000, Cinergy Services, Inc. (Cinergy) and South Carolina Public Service Authority filed a Notice of Cancellation of Service Agreement No. 126, under Cinergy Operating Companies, Resale of Transmission Rights and Ancillary Service Rights, FERC Electric Tariff Original Volume No. 8.

Cinergy requests an effective date of October 1, 2000.

Comment date: October 23, 2000, in accordance with Standard Paragraph E at the end of this notice.

12. The Detroit Edison Company

[Docket No. ER01-24-000]

Take notice that on October 3, 2000, The Detroit Edison Company (Detroit Edison) tendered for filing Service Agreements (Service Agreements) for Short-term Firm and Non-Firm Point-to-Point Transmission Service under the Joint Open Access Transmission Tariff of Consumers Energy Company and Detroit Edison, FERC Electric Tariff No. 1. These Service Agreements are between Detroit Edison and The Energy Authority, dated as of September 5, 2000. The parties have not engaged in any transactions under the Service Agreements prior to thirty days to this filing.

Detroit Edison requests that the Service Agreements be made effective as rate schedules as of October 5, 2000.

Comment date: October 24, 2000, in accordance with Standard Paragraph E at the end of this notice.

13. Alliant Energy Corporate Services, Inc.

[Docket No. ER01-25-000]

Take notice that on October 3, 2000, Alliant Energy Corporate Services, Inc. (Alliant Energy) tendered for filing executed Service Agreements for short-term firm point-to-point transmission service and non-firm point-to-point transmission service, establishing Midwest Renewable Energy Corporation as a point-to-point Transmission Customer under the terms of the Alliant Energy Corporate Services, Inc. transmission tariff.

Alliant Energy Corporate Services, Inc. requests an effective date of September 25, 2000, and accordingly, seeks waiver of the Commission's notice requirements.

A copy of this filing has been served upon the Illinois Commerce Commission, the Minnesota Public Utilities Commission, the Iowa Department of Commerce, and the Public Service Commission of Wisconsin.

Comment date: October 24, 2000, in accordance with Standard Paragraph E at the end of this notice.

14. The Detroit Edison Company

[Docket No. ER01-26-000]

Take notice that on October 3, 2000, The Detroit Edison Company (Detroit Edison) tendered for filing Service Agreements (Service Agreements) for Short-term Firm and Non-Firm Point-to-Point Transmission Service under the Joint Open Access Transmission Tariff of Consumers Energy Company and Detroit Edison, FERC Electric Tariff No. 1. These Service Agreements are between Detroit Edison and NRG Power Marketing, Inc., dated as of August 31, 2000. The parties have not engaged in any transactions under the Service Agreements prior to thirty days to this filing.

Detroit Edison requests that the Service Agreements be made effective as rate schedules as of September 29, 2000.

Comment date: October 24, 2000, in accordance with Standard Paragraph E at the end of this notice.

15. The Detroit Edison Company

[Docket No. ER01-27-000]

Take notice that on October 3, 2000, The Detroit Edison Company (Detroit Edison) tendered for filing Service Agreements (Service Agreements) for Short-term Firm and Non-Firm Point-to-Point Transmission Service under the Joint Open Access Transmission Tariff of Consumers Energy Company and Detroit Edison, FERC Electric Tariff No. 1. These Service Agreements are between Detroit Edison and Coral Power, L.L.C., dated as of August 29, 2000. The parties have not engaged in any transactions under the Service Agreements prior to thirty days to this filing.

Detroit Edison requests that the Service Agreements be made effective as rate schedules as of September 29, 2000.

Comment date: October 24, 2000, in accordance with Standard Paragraph E at the end of this notice.

16. The Detroit Edison Company

[Docket No. ER01-28-000]

Take notice that on October 3, 2000, The Detroit Edison Company (Detroit Edison) tendered for filing a Service Agreement (Service Agreement) for Firm Point-to-Point Transmission Service under the Joint Open Access Transmission Tariff of Consumers Energy Company and Detroit Edison, FERC Electric Tariff No. 1. The Service Agreement is between Detroit Edison and Nordic Marketing, L.L.C., dated as of July 25, 2000. The parties have not engaged in any transactions under the Service Agreements prior to thirty days to this filing.

Detroit Edison requests that the Service Agreements be made effective as rate schedules as of August 25, 2000.

Comment date: October 24, 2000, in accordance with Standard Paragraph E at the end of this notice.

17. Xcel Energy Services, Inc.

[Docket No. ER01-29-000]

Take notice that on October 3, 2000, Xcel Energy Services, Inc. (XES), on behalf of Public Service Company of Colorado (Public Service), submitted for filing the Master Power Purchase and Sale Agreement between Public Service and Allegheny Energy Supply Company, LLC., which is an umbrella service agreement under Public Service's Rate Schedule for Market-Based Power Sales (Public Service FERC Electric Tariff, Original Volume No. 6).

XES requests that this agreement become effective on August 2, 2000.

Comment date: October 24, 2000, in accordance with Standard Paragraph E at the end of this notice.

18. Erie Boulevard Hydropower, L.P.

[Docket No. ER01-30-000]

Take notice that on October 3, 2000, Erie Boulevard Hydropower, L.P. (Erie) tendered for filing an executed Temporary Facility Usage Agreement dated July 10, 2000 between Erie and Niagara Mohawk Power Corporation (NMPC). This agreement has been executed for the purpose of permitting NMPC to use, at no cost, Erie's substation at Erie's School Street hydro project for the purpose of delivering, on a temporary basis, the output of 6 MW generating station recently acquired from Erie by the Green Island Power Authority.

Comment date: October 24, 2000, in accordance with Standard Paragraph E at the end of this notice.

19. USPowerEnergy, LLC

[Docket No. ER01-36-000]

Take notice that on October 3, 2000, USPowerEnergy, LLC (USPE) petitioned the Federal Energy Regulatory Commission (Commission) for acceptance of USPE Rate Schedule FERC No. 1; the granting of certain blanket approvals, including the authority to sell electricity at market-based rates; and the waiver of certain Commission regulations.

USPE intends to engage in wholesale electric power and energy purchases and sales as a marketer. USPE is not in the business of generating or transmitting electric power. USPE provides energy services primarily to commercial, institutional, and small industrial customers; and distributes energy efficiency equipment and supplies.

Comment date: October 24, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-26550 Filed 10-16-00; 8:45 am]

BILLING CODE 6717-01-P